DEPARTMENT OF ENERGY

Federal Energy Regulatory Commission

[Project Nos. 20-117; 703-001]

PacifiCorp; Notice of Intent To Prepare an Environmental Assessment

On March 16, 2023, PacifiCorp filed an application for a non-capacity amendment for the Bear River Hydroelectric Project No. 20 and an application for surrender of the conduit exemption for the Paris Hydroelectric Project No. 703. The Bear River Project is located on Bear River in Franklin and Caribou counties, Idaho, and occupies Federal lands administered by the U.S. Forest Service and U.S. Bureau of Land Management. The Paris Project is located on Paris Creek in Bear Lake County, Idaho, and does not occupy Federal lands.

PacifiCorp's proposal to surrender the Paris Project conduit exemption (P-703) is part of a larger habitat restoration effort proposed by PacifiCorp and the parties to a relicensing settlement agreement for PacifiCorp's Bear River Hydroelectric Project (P-20). PacifiCorp proposes to decommission the Paris Project and stop the diversion of water from Paris Creek into the irrigation canal that serves the Paris Project. After decommissioning and surrender, flows currently diverted through the canal would be returned to Paris Creek for the enhancement and restoration of approximately 3.5 miles of cold-water habitat for Bonneville Cutthroat Trout in the currently bypassed reach of Paris Creek. To partially mitigate the cost of the proposed decommissioning of the Paris Project, PacifiCorp proposes to amend the license for the Bear River Project to reduce the minimum instream flow requirement in the Grace Development's bypassed reach. This reduction in required minimum instream flow would allow PacifiCorp to increase hydroelectric generation at the Grace Development to offset lost generation associated with the Paris Project decommissioning. A Notice of Amendment and Surrender Applications Accepted for Filing and Soliciting Comments, Motions to Intervene, and Protests was issued on July 21, 2023. The State of Idaho filed comments and a motion to intervene.

This notice identifies Commission staff's intention to prepare an environmental assessment (EA) for the proposed action. The planned schedule for the completion of the EA is May 2024.¹ Revisions to the schedule may be made as appropriate. The EA will be issued and made available for review by all interested parties. All comments filed on the EA will be reviewed by staff and considered in the Commission's final decision on the proceeding.

¹ 42 U.S.C. 4336a(g)(1)(B) requires lead Federal agencies to complete EAs within 1 year of the agency's decision to prepare an EA.

With this notice, the Commission is inviting Federal, State, local, and Tribal agencies with jurisdiction and/or special expertise with respect to environmental issues affected by the proposal to cooperate in the preparation of the EA planned to be issued May 2024. Agencies wishing to cooperate, or further discuss the benefits, responsibilities, and obligations of the cooperating agency role, should contact staff listed at the bottom of this notice by February 14, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Jennifer Ambler at (202) 502-8586 or jennifer.ambler@ferc.gov, or Holly Frank at (202) 502-6833 or holly.frank@ferc.gov.

Dated: January 24, 2024.
Debbie-Anne A. Reese,
Acting Secretary.

[FR Doc. 2024-01840 Filed 1-30-24; 8:45 am]

BILLING CODE 6717-01-P